DEPARTMENT OF HEALTH AND HUMAN SERVICES

Office of the Secretary

[Document Identifier: OS-0937-0166]

Agency Information Collection Activities: Submission for OMB Review; Comment Request

Agency: Office of the Secretary, HHS.

In compliance with the requirement of section 3506(c)(2)(A) of the Paperwork Reduction Act of 1995, the Office of the Secretary, Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Revision of a currently approved collection.

Title of Information Collection: 42 CFR subpart B: Sterilization of Persons in federally Assisted Family Planning Projects; Form No.: OMB #0937-0166; Use: These regulations and informed consent procedures are associated with Federally funded sterilization services. Selected consent forms are audited during the site visits and program reviews by Federal programs to ensure compliance with the regulations and protection of individual's rights.

Frequency: On Occasion.

Affected Public: Individuals or households, not for profit institutions, and/or State, local or tribal government.

Number of Respondents: 50,000.

Total Annual Responses: 50,000.

Total Annual Hours: 50,000.

To obtain copies of the supporting statement and any related forms for the proposed paperwork collections referenced above, or E-mail your request, including your address, phone number, OS document identifier, to John.Burke@hhs.gov., or call the Reports Clearance Office on (202) 690-8356. Written comments and recommendations for the proposed information collections must be mailed within 30 days of this notice directly to the OMB desk officer; OMB Human Resources and Housing Branch, Attention: Allison Eydt (OMB #0937-0166, New Executive Office Building, Room 10235, Washington, DC 20503.

Dated: May 27, 2003.
John P. Burke, III,
Paperwork Reduction Act Reports Clearance Officer, Office of the Secretary, Department of Health and Human Services.

[FR Doc. 03-13956 Filed 6-3-03; 8:45 am]

BILLING CODE 4150-34-M